DEPARTMENT OF TRANSPORTATION

[Docket No. DOT-OST-2024-0092]

Battery Safety Post-Incident Stakeholder Meeting

AGENCY: Office of the Assistant Secretary for Transportation Policy, Department of Transportation (DOT).

ACTION: Notice of public meeting.

SUMMARY: The Department of Transportation will convene a meeting on August 27, 2024, as an opportunity to share information with the public on activities regarding lithium-ion battery safety in a post-incident scenario. At this event, which will be broadcast virtually for the audience, representatives from DOT and other agencies and organizations will discuss electric vehicles and fire safety topics related to lithium-ion batteries. The format will include presentations with an opportunity for the audience to ask questions after each topic. Materials presented will be available on the DOT web page after the event.

DATES: DOT will hold the public meeting on August 27, 2024, from 9 a.m. to 12:30 p.m. eastern time. Registration to attend the meeting must be received no later than August 26, 2024. There is no cost to register. Registration can be completed at https://usdot.zoomgov.com/webinar/register/WN_yhD1XAMYTeSp4xi5gbt2Aw.

ADDRESSES: The online access link to the meeting will be available upon registration. Details regarding the agenda and speakers will be added to the DOT web page prior to the event, at https://www.transportation.gov/battery-safety-post-incident-stakeholder-meeting. The material presented at the meeting will also be added to the DOT web page.

FOR FURTHER INFORMATION CONTACT: If you have questions about the public meeting, please contact Elizabeth Machek at 781-483-2415 or by email at batterysafety@dot.gov.

SUPPLEMENTARY INFORMATION:

Registration is required for all attendees. Attendees should register at https://usdot.zoomgov.com/webinar/register/WN_yhD1XAMYTeSp4xi5gbt2Aw by August 26, 2024.

DOT is committed to providing equal access to this meeting for all participants. Persons with disabilities in need of an accommodation should contact Mirna Providence at 617-494-3344, or via email at Mirna.Providence@dot.gov, with your request as soon as possible and no later than August 16, 2024. Closed captioning services will be available.

Should it be necessary to cancel or reschedule the event due to an unforeseen circumstance, DOT will take all available measures to notify registered participants as soon as possible. The event will be recorded, and a recording will be posted to the DOT web page after the event.

Privacy Act: As this event will be recorded and made available to the public, any comments you make or questions you ask at this meeting will be included in the publicly available information. For information on DOT's compliance with the Privacy Act, see https://www.transportation.gov/privacy.

Across the federal government, experts are working to assure the safety of operators, occupants, passersby, and emergency response personnel with regard to post-incident lithium-ion battery-powered vehicles. DOT hosted an Electric Vehicle Summit in the summer of 2022 and again in the summer of 2023 to bring together stakeholders and establish an ongoing discourse regarding the safety of these vehicles. DOT is hosting this event on August 27, 2024, to continue that discussion and update stakeholders and the public.

The Battery Safety Post-Incident Stakeholder meeting will convene experts across DOT Operating Administrations and other Federal agencies responsible for vehicle and fire safety, as well as organizations and members of the public with expertise or interest in areas of battery safety, electrical standards, and emergency management services. Topics will include stranded energy, fire incident response, heavy vehicle consideration, damaged EV response, EV water immersion, and emerging battery technologies. Sessions will include presentations from individuals or panels and, as time allows, an opportunity for attendees to ask questions. DOT is not seeking consensus advice or recommendations on any topic from attendees at the meeting. Presentations will be displayed during the sessions and added to the DOT web page after the meeting.

Scott Goldstein,
Deputy Assistant Secretary for Transportation Policy.

[FR Doc. 2024-17786 Filed 8-8-24; 8:45 am]

BILLING CODE 4910-9X-P